INTERNATIONAL TRADE COMMISSION

[Investigation No. 337-TA-1364 (Enforcement)]

Certain Blood Flow Restriction Devices With Rotatable Windlasses and Components Thereof; Notice of a Commission Determination Not To Review an Initial Determination Granting a Joint Motion for Termination of the Enforcement Proceeding Based on Settlement; Termination of the Enforcement Proceeding

AGENCY: U.S. International Trade Commission.

ACTION: Notice.

SUMMARY: Notice is hereby given that the U.S. International Trade Commission (“Commission”) has determined not to review an initial determination (“ID”) (Order No. 33) of the presiding administrative law judge (“ALJ”) granting a joint motion to terminate the enforcement proceeding based on settlement. The enforcement proceeding is hereby terminated.

FOR FURTHER INFORMATION CONTACT: Joelle P. Justus, Esq., Office of the General Counsel, U.S. International Trade Commission, 500 E Street SW, Washington, DC 20436, telephone (202) 205-2593. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted the underlying investigation on May 31, 2023, based on a complaint, as supplemented, filed by Composite Resources, Inc. and North American Rescue, LLC (collectively, “Complainants”). 88 FR 34893-95 (May 31, 2023). The Commission determined to investigate alleged violations of section 337 of the Tariff Act of 1930, as amended, 19 U.S.C. 1337, based upon the importation into the United States, the sale for importation, or the sale within the United States after importation of certain blood flow restriction devices with rotatable windlasses and components thereof that infringe certain claims of U.S. Patent Nos. 7,842,067 (“the '067 Patent”), 8,888,807 (“the '807 Patent”), and 10,016,203 (“the '203 Patent”); as well as United States Trademark Registration Nos. 3,863,064 and 5,064,378 (“the Asserted Trademarks”). The complaint further alleges whether a domestic industry exists. Id. The Commission also determined to investigate alleged violations of section 337 based upon the importation into the United States, and in the sale of, certain blood flow restriction devices with rotatable windlasses and components thereof that infringe certain trade dress (“Asserted Trade Dress”) in violation of Section 43(a) of the Lanham Act (15 U.S.C. 1125) the threat or effect of which is to destroy or substantially injure a domestic industry. Id. at 34893-94. The Commission's notice of investigation named thirty (30) respondents. Id. at 34894. The Office of Unfair Import Investigations (“OUII”) was also named as a party. Id.

Two named respondents were terminated based on the entry of consent orders. See Order No. 7 (Aug. 9, 2023), unreviewed by Comm'n Notice (Sept. 5, 2023); Order No. 13 (Oct. 3, 2023), unreviewed by Comm'n Notice (Nov. 2, 2023). Twelve (12) named respondents were terminated based on withdrawal of the complaint after those respondents were unable to be served. See Order No. 10 (Aug. 22, 2023), unreviewed by Comm'n Notice (Sept. 20, 2023). The remaining respondents were found in default. See Order No. 11 (Aug. 29, 2023), unreviewed by Comm'n Notice (Sept. 22, 2023).

Complainants withdrew many of their patent infringement allegations, including all allegations with respect to the '807 and '203 Patents. See Order No. 14 (Nov. 2, 2023), unreviewed by Comm'n Notice (Dec. 4, 2023); Order No. 19 (Jan. 25, 2024), unreviewed by Comm'n Notice (Feb. 15, 2024).

On September 30, 2024, the Commission determined to issue (1) a general exclusion order prohibiting the unlicensed entry of blood flow restriction devices with rotatable windlasses and components thereof that infringe one or more of claims 1, 4, 15, and/or 16 of the '067 patent; (2) a limited exclusion order with respect to the defaulting respondents for infringement of the Asserted Trademarks and Asserted Trade Dress; and (3) cease and desist orders (“CDOs”) directed to certain respondents with respect to infringement of claims 1, 4, 15 and/or 16 of the '067 Patent, the Asserted Trademarks, and the Asserted Trade Dress. See 89 FR 80930-31 (Oct. 4, 2024); Corrected Comm'n Op. (Oct. 8, 2024).

The Commission instituted an enforcement proceeding in this investigation on March 21, 2025, based upon a complaint filed by Complainants. 90 FR 13390-91 (Mar. 21, 2025). The complaint alleges that Rhino Inc. and Wuxi Emsrun Technology Co., Ltd. (“Wuxi Emsrun”) have continued to sell certain products in violation of the CDOs entered against them. Id. at 13391. Rhino and Wuxi Emsrun were named as respondents in the enforcement proceeding, and OUII was also named as a party. Id.; Comm'n Order (Mar. 17, 2025).

On June 23, 2025, Complainants, Wuxi Emsrun, and Rhino filed a joint motion to terminate the investigation based on certain settlement agreements. The parties submitted both confidential and public versions of the settlement agreements with the joint motion. On June 24, 2025, OUII filed a response in support of the motion to terminate. On June 26, 2025, the ALJ issued the subject ID (Order No. 33), granting the joint motion to terminate. The ALJ found that the motion complied with the requirements of Commission Rule 210.21(b)(1) (19 CFR 210.21(b)(1)), and that there are no extraordinary circumstances that would prevent the requested termination. Order No. 33 at 1-2. The ALJ also found there is no evidence indicating that terminating the investigation based on the agreements would be contrary to the public interest. Id. at 2. No petitions for review of the subject ID were filed.

The Commission has determined not to review the subject ID. The enforcement proceeding is hereby terminated.

The Commission vote for this determination took place on July 14, 2025.

This action is taken under the authority of section 337 of the Tariff Act of 1930, as amended (19 U.S.C. 1337), and in Part 210 of the Commission's Rules of Practice and Procedure (19 CFR part 210).

By order of the Commission.
Issued: July 16, 2025.
Lisa Barton,
Secretary to the Commission.

[FR Doc. 2025-13517 Filed 7-17-25; 8:45 am]

BILLING CODE 7020-02-P